DEPARTMENT OF HEALTH AND HUMAN SERVICES

Office of Population Affairs; Awards Unsolicited Proposal for the CFDA Number: 93.974

AGENCY: Office of Population Affairs, Office of the Assistant Secretary for Health, Department of Health and Human Services.

ACTION: Notice.

SUMMARY: The Office of Population Affairs (OPA) announces the award of a single-source grant in response to an unsolicited proposal from the University of Northern Colorado, Greely, Colorado. The proposal submitted was not solicited either formally or informally by any federal government official.

FOR FURTHER INFORMATION CONTACT: Diane Foley at diane.foley@hhs.gov or by telephone at 240-453-8200.

SUPPLEMENTARY INFORMATION:

Recipient: University of Northern Colorado, Greely, Colorado.

Purpose of the Award: The purpose of this grant is to expand the knowledge base regarding cessation strategies that adolescents and young adults use to maintain their reproductive health. It will provide valuable data on how family planning services can incorporate technology and cessation counseling strategies in primary care medical clinics and other clinic workflows, including Title X clinics.

Amount of Award: $499,385 in Federal Fiscal Year (FFY) 2019 funds and estimated $500,000 in FFY 2020 funds subject to the enactment of appropriations and availability of funds.

Project Period: July 15, 2019-July 14, 2021.

OPA performed an objective review of the unsolicited proposal from the University of Northern Colorado to expand and evaluate the OPTIONS for Integrated Health program. This proposal builds on a previous study, which is the only study in existence that has scientifically demonstrated how the Transtheoretical Model of Health Behavior Change (Prochaska & Velicer) works with sexually active adolescents and young adults. This cutting edge research identified the population of adolescents and young adults most ready for behavior change including cessation from sexual activity. Based on an external and internal review of the proposal, OPA determined that it has merit.

The University of Northern Colorado and the proposed Principle Investigator have experience expanding scientific knowledge on harm-reduction/cessation strategies adolescents and young adults use to maintain their reproductive health. They will further broaden knowledge in harm-reduction/cessation strategies by further testing an innovative digital health technology in underserved adolescent/clinics in counties experiencing high levels of unintended pregnancy and STI rates.

This award is being made non-competitively because there is no current, pending, or planned funding opportunity announcement under which this proposal could compete.

Legislative Authority: Title X of the Public Health Service Act, SEC. 1004 [300a-2].

Dated: July 8, 2019.
Diane Foley,
Deputy Assistant Secretary for Population Affairs.

[FR Doc. 2019-15120 Filed 7-16-19; 8:45 am]

BILLING CODE P